DEPARTMENT OF ENERGY

Federal Energy Regulatory Commission

Notice of Application for Amendment of License and Soliciting Comments, Motions To Intervene, and Protests

November 4, 2002.

Take notice that the following application has been filed with the Commission and is available for public inspection:

a. Application Type: Amendment of License to Change Project Boundary.

b. Project No.: 2232-421.

c. Date Filed: March 9, 2001, and September 11, 2002.

d. Applicant: Duke Power Company.

e. Name of Project: Catawba-Wateree Project.

f. Location: The Rocky Creek/Cedar Creek Development of the Catawba-Wateree project is located in Chester, Fairfield, and Lancaster Counties, South Carolina.

g. Filed Pursuant to: Federal Power Act, 16 U.S.C. 791 (a) 825(TM)) and 799 and 801.

h. Applicant Contact: Jeff G. Lineberger, P.E. Manager, Hydro Licensing, Duke Power Company, 526 South Church Street, P. O. Box 1006, Charlotte, NC 28201-1006, (704) 382-5942.

i. FERC Contact: Any questions on this notice should be addressed to Mr. Robert Shaffer at (202) 502-8944, or e-mail address: robert.shaffer@ferc.gov.

j. Deadline for filing comments and or motions: December 6, 2002.

All documents (original and eight copies) should be filed with: Magalie R. Salas, Secretary, Federal Energy Regulatory Commission, 888 First Street, NE., Washington DC 20426. Please include the project number (P-2232-421) on any comments or motions filed.

k. Description of Request: The licensee proposes to revise the project boundary to more accurately represent the authorized elevation of 284.4 feet for the Rocky Creek/Cedar Creek reservoir level. The licensee states the existing boundary inaccurately shows the 284.4 foot full pond contour extending to the toe of the diversion dam for the upstream Great Falls/Dearborn Development.

l. Locations of the Application: A copy of the application is available for inspection and reproduction at the Commission's Public Reference Room, located at 888 First Street, NE., Room 2A, Washington, DC 20426, or by calling (202) 502-8371. This filing may also be viewed on the Commission's Web site at http://www.ferc.gov using the

• FERRIS” link. Enter the docket number excluding the last three digits in the docket number field to access the document. For assistance, call 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Linwood A. Watson, Jr.,
Deputy Secretary.

[FR Doc. 02-28585 Filed 11-12-02; 8:45 am]

BILLING CODE 6717-01-P